SMALL BUSINESS ADMINISTRATION

[Declaration of Disaster #3626]

State of Louisiana

As a result of the President's major disaster declaration on September 15, 2004, I find that Jefferson, Lafourche, Orleans, Plaquemines, St. Bernard, St. Charles, St. Tammany, and Terrebonne Parishes in the State of Louisiana constitute a disaster area due to damages caused by Hurricane Ivan occurring on September 13, 2004, and continuing. Applications for loans for physical damage as a result of this disaster may be filed until the close of business on November 15, 2004, and for economic injury until the close of business on June 15, 2005, at the address listed below or other locally announced locations:

U.S. Small Business Administration, Disaster Area 3 Office, 14925 Kingsport Rd., Fort Worth, TX 76155-2243.

In addition, applications for economic injury loans from small businesses located in the following contiguous parishes and counties may be filed until the specified date at the above location: Assumption, St. James, St. John the Baptist, St. Mary, Tangipahoa, and Washington in the State of Louisiana; and Hancock, and Pearl River Counties in the State of Mississippi.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 362608. For economic injury the number is 9ZW900 for Louisiana; and 9ZX100 for Mississippi.

(Catalog of Federal Domestic Assistance Program Nos. 59002 and 59008)
Dated: September 20, 2004.
Herbert L. Mitchell,
Associate Administrator for Disaster Assistance.

[FR Doc. 04-21900 Filed 9-29-04; 8:45 am]

BILLING CODE 8025-01-P